FEDERAL MARITIME COMMISSION

Ocean Transportation Intermediary License; Revocations

The Federal Maritime Commission hereby gives notice that the following Ocean Transportation Intermediary licenses have been revoked pursuant to section 19 of the Shipping Act of 1984 (46 U.S.C. chapter 409) and the regulations of the Commission pertaining to the licensing of Ocean Transportation Intermediaries, 46 CFR part 515, effective on the corresponding date shown below:

License Number: 016358N.

Name: Associated Cargo Services, Inc. dba Pacific Micronesian Lines.

Address: 2976-K Alvarado Street, San Leandro, CA 94577.

Date Revoked: October 27, 2006.

Reason: Failed to maintain a valid bond.

License Number: 019135F.

Name: Covenant International Corp.

Address: 7860 NW., 80th Street, Miami, FL 33166.

Date Revoked: October 26, 2006.

Reason: Failed to maintain a valid bond.

License Number: 003443F.

Name: Tradewinds Shipping Corp.

Address: 420 Sackett Point Road, Unit 4-B, North Haven, CT 06473.

Date Revoked: October 23, 2006.

Reason: Surrendered license voluntarily.

Sandra L. Kusumoto,
Director, Bureau of Certification and Licensing.

[FR Doc. E6-19308 Filed 11-14-06; 8:45 am]

BILLING CODE 6730-01-P